DEPARTMENT OF COMMERCE

National Oceanic and Atmospheric Administration

[RTID 0648-XB947]

Mid-Atlantic Fishery Management Council (MAFMC); Public Meetings and Request for Comments

AGENCY: National Marine Fisheries Service (NMFS), National Oceanic and Atmospheric Administration (NOAA), Commerce.

ACTION: Notice; public meetings and request for comments.

SUMMARY: The Mid-Atlantic Fishery Management Council (Council) will hold five public hearings (including one webinar) and accept written comments regarding an action intended to rebuild the Atlantic mackerel stock.

DATES: The hearings will be held between April 25, 2022 and May 2, 2022. Written comments must be received by May 9, 2022. See SUPPLEMENTARY INFORMATION for details, including the dates and times for all hearings.

ADDRESSES: See SUPPLEMENTARY INFORMATION for hearing details.

Council address: Mid-Atlantic Fishery Management Council, 800 N State Street, Suite 201, Dover, DE 19901; telephone: (302) 674-2331; www.mafmc.org.

Written comments may be submitted to:

• Email to: jdidden@mafmc.org (use subject “Mackerel Rebuilding”).

• Via webform at: https://www.mafmc.org/comments/mackerel-rebuilding.

• Mail to: Chris Moore, Ph.D., Executive Director, Mid-Atlantic Fishery Management Council, 800 North State Street, Suite 201, Dover, DE 19901. Mark the outside of the envelope “Mackerel Rebuilding.”

FOR FURTHER INFORMATION CONTACT: Christopher M. Moore, Ph.D., Executive Director, Mid-Atlantic Fishery Management Council, telephone: (302) 526-5255.

SUPPLEMENTARY INFORMATION: The Council will hold five public hearings and accept written comments regarding an action intended to rebuild the Atlantic mackerel stock. Potential management measures include commercial quotas, recreational bag limits, a 3-inch commercial minimum mesh requirement, and permitting clarifications. The action would also continue to set a river herring and shad catch cap for the mackerel fishery. A public hearing document with additional details can be found at https://www.mafmc.org/actions/atlantic-mackerel-rebuilding-amendment.

Hearing 1—New Bedford, Massachusetts, Monday, April 25, 2022, 6 p.m.-9 p.m., Fairfield Inn and Suites, 185 MacArthur Drive, New Bedford, MA 02740, phone: (774) 634-2000;

Hearing 2—Plymouth, Massachusetts, Tuesday, April 26, 2022, 6 p.m.-9 p.m., Hilton Garden Inn, 4 Home Depot Drive, Plymouth, MA 02360, phone: (508) 830-0200;

Hearing 3—Portsmouth, New Hampshire, Wednesday, April 27, 2022, 6 p.m.-8 p.m., Urban Forestry Center. 45 Elwyn Rd, Portsmouth, NH 03801; phone: (603) 431-6774;

Hearing 4—Brunswick, Maine, Thursday, April 28, 2022, 5:30 p.m.-8 p.m., Curtis Memorial Library (Morrell Meeting Room), 23 Pleasant Street, Brunswick, ME 04011, phone: (207) 725-5242; and

Hearing 5—Webinar: Monday, May 2, 2022, 6 p.m.-10 p.m. Connection details can be found at the Council's website calendar or https://www.mafmc.org/actions/atlantic-mackerel-rebuilding-amendment.

Written comments are accepted at the hearings or via the submission methods described above, by May 9, 2022.

Special Accommodations

These meetings are physically accessible to people with disabilities. Requests for sign language interpretation or other auxiliary aid should be directed to Shelley Spedden, (302) 526-5251, at least 5 days prior to the meeting date.

Authority: 16 U.S.C. 1801 et seq.

Dated: April 6, 2022.
Tracey L. Thompson,
Acting Deputy Director, Office of Sustainable Fisheries, National Marine Fisheries Service.

[FR Doc. 2022-07695 Filed 4-8-22; 8:45 am]

BILLING CODE 3510-22-P